DEPARTMENT OF THE INTERIOR

Fish and Wildlife Service

Bowdoin National Wildlife Refuge Complex, Malta, MT

AGENCY: Fish and Wildlife Service, Interior.

ACTION: Notice of intent to prepare a comprehensive conservation plan and environmental assessment; request for comments.

SUMMARY: We, the U.S. Fish and Wildlife Service (Service, we) intend to gather information necessary to prepare a comprehensive conservation plan (CCP) and associated environmental documents for Bowdoin National Wildlife Refuge (NWR) Complex (Complex) in Malta, Montana. This Complex includes the Bowdoin, Black Coulee, Creedman Coulee, Hewitt Lake, and Lake Thibadeau NWRs. It also includes the Wetland Management District (WMD) comprised of seven waterfowl production areas and thousands of acres of wetland, grassland, and conservation easements on private lands. We furnish this notice in compliance with our CCP policy to advise other agencies and the public of our intentions, and to obtain suggestions and information on the scope of issues to be considered in the planning process.

DATES: To ensure consideration, we must receive your written comments by June 14, 2007.

ADDRESSES: Send your comments or requests for more information to Laura King, Planning Team Leader, Tewaukon NWR, Division of Refuge Planning, 9754 143½ Avenue, SE., Cayuga, North Dakota 58013-9764.

FOR FURTHER INFORMATION CONTACT: Laura King, 701-724-3598, or John Esperance, 303-236-4369.

SUPPLEMENTARY INFORMATION: With this notice, the Service initiates a CCP for the Bowdoin NWR Complex in Malta, Montana.

Background

The CCP Process

The National Wildlife Refuge System Administration Act of 1966, as amended by the National Wildlife Refuge System Improvement Act of 1997 (16 U.S.C. 668dd-668ee), requires the Service to develop a CCP for each national wildlife refuge. The purpose in developing a CCP is to provide refuge managers with a 15-year strategy for achieving refuge purposes and contributing toward the mission of the National Wildlife Refuge System, consistent with sound principles of fish and wildlife management, conservation, legal mandates, and Service policies. In addition to outlining broad management direction on conserving wildlife and their habitats, CCPs identify wildlife-dependent recreational opportunities available to the public, including opportunities for hunting, fishing, wildlife observation, wildlife photography, and environmental education and interpretation.

The Service established each unit of the National Wildlife Refuge System, including those for the Complex with specific purposes. We use these purposes to develop and prioritize management goals and objectives within the National Wildlife Refuge System mission, and to guide which public uses will occur on these NWRs. The planning process is a way for the Service and the public to evaluate management goals and objectives for the best possible conservation efforts of this important wildlife habitat, while providing for wildlife-dependent recreation opportunities that are compatible with each NWR and the mission of the National Wildlife Refuge System.

The Service will conduct a comprehensive conservation planning process that will provide opportunity for Tribal, State, and local governments; agencies; organizations; and the public to participate in issue scoping and public comment. We request input for issues, concerns, ideas, and suggestions for the future management of these NWRs and the WMD in Montana. We invite anyone interested to respond to the following two questions.

(1) What problems or issues do you want to see addressed in the CCP?

(2) What improvements would you recommend for these five NWRs and one WMD?

We have provided the above questions for your optional use; you are not required to provide information to us. The planning team developed these questions to gather information about individual issues and ideas concerning these NWRs and the WMD. Our planning team will use the comments it receives as part of the planning process; however, we will not reference individual comments in our reports or directly respond to them.

We will also give the public an opportunity to provide input at an open house to scope issues and concerns. You can obtain the schedule from the planning team leader (see ADDRESSES). You may also submit comments anytime during the planning process by writing to the above address. All information provided voluntarily by mail, phone, or at public meetings becomes part of our official public record (i.e., names, addresses, letters of comment, input recorded during meetings). If a private citizen or organization requests this information under the Freedom of Information Act, we may provide informational copies.

The Service will conduct the environmental review of this project in accordance with the requirements of the National Environmental Policy Act (NEPA) of 1969, as amended (42 U.S.C. 4321 et seq.); NEPA Regulations (40 CFR parts 1500-1508); other appropriate Federal laws and regulations; and our policies and procedures for compliance with those regulations. All comments we receive from individuals on our environmental assessments and environmental impact statements become part of the official public record. We will handle requests for such comments in accordance with the Freedom of Information Act, NEPA (40 CFR 1506.6(f)), and other Departmental and Service policies and procedures.

Bowdoin NWR Complex

This Complex encompasses 75,521 acres, of which 49,260 acres are designated as easements. The Complex lies in the short and mixed-grass prairie region of north-central Montana and has both saline and freshwater wetlands which provide habitat for thousands of migrating waterfowl and shorebirds, including the endangered piping plover. Each refuge has various establishing purposes. Bowdoin NWR was established: (1) “* * * as a refuge and breeding ground for migratory birds and other wildlife.”; (2) “* * * and that such part of said lands as the Secretary of Agriculture may deem proper be reserved for use as a shooting area to be operated under a cooperative agreement or lease with the Montana State Game Commission or such other operating agency as may be approved.”; (3) “The reservation of these lands as a migratory waterfowl refuge is subject to the use thereof by [the Department of Interior] for irrigation and other incidental purposes * * *” and (4) “* * * for any other management purpose, for migratory birds.” Black Coulee, Creedman Coulee, and Lake Thibadeau NWRs were established for: (1) “* * * water conservation, drought relief, and migratory bird and wildlife conservation purposes * * * wildlife conservation demonstration unit and closed refuge * * *”; and (2) “* * * as a refuge and breeding ground for migratory birds and other wildlife * * *”; and Hewitt Lake NWR was established for: (1) “* * * water conservation, drought relief, stock water, and migratory waterfowl and wildlife conservation purposes * * * and maintain a closed refuge * * * wildlife conservation demonstration unit and closed refuge * * *”; (2) “* * * water conservation, drought relief, and migratory bird and wildlife conservation purposes * * * wildlife conservation demonstration unit and closed refuge * * *”; (3) “* * * as a refuge and breeding ground for migratory birds and other wildlife * * * nothing herein shall affect the disposition of the oil and gas deposits therein * * *”; (4) “* * * purposes of land-conservation and land utilization program * * *”; (5) “* * * for use and administration under applicable laws as refuges for migratory and other wildlife.” Bowdoin WMD was established: (1) “as Waterfowl Production Areas subject to * * * all of the provisions of such Act [Migratory Bird Conservation Act] * * * except the inviolate sanctuary provisions * * *”; and (2) “* * * for any other management purpose, for migratory birds.”

Dated: March 30, 2007.
Elliott Sutta,
Acting Regional Director, Region 6, Denver, Colorado.

[FR Doc. E7-9280 Filed 5-14-07; 8:45 am]

BILLING CODE 4310-55-P